DEPARTMENT OF THE INTERIOR

National Park Service

Notice of Availability of a Record of Decision for the Fort King Special Resource Study

SUMMARY: Congress, in the Interior Appropriations Act of 2000, authorized the Fort King Special Resource Study and Final Environmental Impact Statement (“Study”). The legislation directed the National Park Service (NPS) to determine whether Fort King is nationally significant and, if so, whether it is suitable and feasible as a new unit of the National Park System. Acknowledging the site's National Historic Landmark (NHL) status, the Study determined that Fort King is nationally significant. In addition, the Study determined that Fort King is suitable and feasible for inclusion in the National Park System because its interpretive themes are underrepresented in the current system and the property is of sufficient size and shape to protect resources and accommodate public use. The study does not, however, propose an active NPS management role at the site. Rather, existing programs such as Save America's Treasures and Preserve America are used to exemplify the types of NPS assistance available to future non-Federal managers of the Fort King property.

The Final Study was distributed for public review in August 2006. The NPS has prepared a Record of Decision (ROD) on the Study to document the decision made, the background of the project, other alternatives considered, the basis for the decision, the environmentally preferable alternative, and the public involvement in the decision-making process.

The 1998 Omnibus Parks Management Act (Pub. L. 105-391 § 303) mandates that each Special Resources Study (SRS) identify the alternative or combination of alternatives which would, in the professional judgment of the Director of the NPS, be “most effective and efficient in protecting significant resources and providing for public enjoyment.” The Study identifies Alternative B in the Study as the environmentally preferred alternative and most effective and efficient alternative because it preserves more of the site's archeological resources in an undisturbed condition and minimizes capital expenditures and long-term operating costs.

Under Alternative B, the historic significance of Fort King would be communicated to visitors primarily through self-guided interpretive trails, wayside exhibits, and brochures. The park would not have a permanent on-site staff. Guided tours and live interpretation programs for school groups and special events would be provided by volunteers on a case by case basis. The site's existing wooded landscape would remain predominantly unchanged. Pedestrian trails would be cleared by vegetation and lightly graded. Trees and other woody vegetation immediately surrounding the fort location would be thinned or removed for interpretive purposes.

The Federal government would not assume ownership of land, impose zoning or land use controls, or take responsibility for permanent funding. Likewise, there would be no direct NPS ownership or management of resources. As with other National Historic Landmarks, the NPS could provide technical assistance for general planning, resource management, and interpretation. However, overall management of the Fort King site would be administered by one or more local entities.

The Study also presented in detail a No Action and two Action Alternatives that describe different ways of commemorating, interpreting, and preserving resources associated with Fort King. All alternatives are described in detail in the Study.

Alternative B provides a broad range of public benefits such as improved public access, long-term preservation of archeological resources, and increased visitor awareness of the site's national significance while minimizing capital expenditures and long-term operating costs.

DATES: On September 14, 2006, the Regional Director, Southeast Region, NPS signed the ROD for the SRS and Environmental Impact Statement (EIS) for Fort King.

ADDRESSES: Tim Bemisderfer, Planning and Compliance Division, Southeast Region, National Park Service, 100 Alabama Street SW., 1924 Building, Atlanta, Georgia 30303. An electronic copy of the Final EIS and ROD are available on the internet at http://parkplanning.nps.gov.

FOR FURTHER INFORMATION CONTACT: Tim Bemisderfer, 404-562-3124, extension 693.

SUPPLEMENTARY INFORMATION: A copy of the ROD can be obtained via the Internet by visiting the NPS Planning Environmental and Public Comment System Web site at http://parkplanning.nps.gov or by calling 404-562-3124, extension 693.

The responsible official for the FEIS is Patricia A. Hooks, Regional Director, Southeast Region, National Park Service, 100 Alabama Street SW., 1924 Building, Atlanta, Georgia 30303.

Dated: September 29, 2006.
Patricia A. Hooks,
Regional Director, Southeast Region.

[FR Doc. 06-9002 Filed 10-31-06; 8:45 am]

BILLING CODE 4310-70-M